DEPARTMENT OF THE INTERIOR

Fish and Wildlife Service

Information Collection Renewal Submitted to the Office of Management and Budget (OMB) for Approval Under the Paperwork Reduction Act; OMB Control Number 1018-0093, Applications for Permits

AGENCY: Fish and Wildlife Service, Interior.

ACTION: Notice; request for comments.

SUMMARY: The U.S. Fish and Wildlife Service (we) has submitted the collection of information described below to OMB for approval under the provisions of the Paperwork Reduction Act of 1995. A description of the information collection requirement is included in this notice. If you wish to obtain copies of the information collection requirements, related forms, or explanatory material, contact the Service Information Collection Clearance Officer at the address or telephone number listed below.

DATES: OMB has up to 60 days to approve or disapprove information collection but may respond after 30 days. Therefore, to ensure maximum consideration, you must submit comments on or before April 7, 2004.

ADDRESSES: Submit your comments on this information collection renewal to the Desk Officer for the Department of the Interior at OMB-OIRA via facsimile or e-mail using the following fax number or e-mail address: (202) 395-6566 (fax); OIRA_DOCKET@omb.eop.gov (e-mail). Please provide a copy of your comments to the Fish and Wildlife Service's Information Collection Clearance Officer, 4401 N. Fairfax Dr., MS 222 ARLSQ, Arlington, VA 22203; (703) 358-2269 (fax); or anissa_craghead@fws.gov (e-mail).

FOR FURTHER INFORMATION CONTACT: To request a copy of the information collection request, explanatory information, or related forms, contact Anissa Craghead, Information Collection Clearance Officer, at 703-358-2445 or electronically at Anissa_Craghead@fws.gov, or Amy Brisendine at 703-358-2104 ext. 2441, electronically at Amy_Brisendine@fws.gov.

SUPPLEMENTARY INFORMATION: The Office of Management and Budget (OMB) regulations at 5 CFR 1320, which implement provisions of the Paperwork Reduction Act of 1995 (44 U.S.C. 3501 et seq.), require that interested members of the public and affected agencies have an opportunity to comment on information collection and record keeping activities (see 5 CFR 1320.8(d)). We have submitted a request to OMB to renew its approval of the collection of information for: (1) The Service's license/permit application form numbers 3-200-19 through 3-200-25 and 3-200-27 through 3-200-53, which are all currently approved under OMB control number 1018-0093; (2) the placement of Service form 3-200-26, which is currently approved under OMB control number 1018-0092, under OMB control number 1018-0093; (3) the addition of forms 3-200-58, 3-200-64 through 3-200-66, and 3-200-73; and (4) the deletion of form 3-200-38. We are requesting a 3-year term of approval for this information collection activity. A previous 60-day notice on this information collection requirement was published in the March 31, 2003, Federal Register (68 FR 15474) inviting public comment. Comments were received from the American Zoo and Aquarium Association (AZA). Many of their comments and suggestions were incorporated into the forms. This notice provides an additional 30 days in which to comment on the information collection.

Federal agencies may not conduct or sponsor, and a person is not required to respond to, a collection of information unless it displays a currently valid OMB number. The OMB control number for this collection is 1018-0093.

The information collection requirements in this submission implement the regulatory requirements of the Endangered Species Act (16 U.S.C. 1531 et seq.), the Migratory Bird Treaty Act (16 U.S.C. 703 et seq.), the Lacey Act (16 U.S.C. 3371 et seq.), the Bald and Golden Eagle Protection Act (16 U.S.C. 668), the Convention on International Trade in Endangered Species of Wild Fauna and Flora (CITES) (27 U.S.T. 1087), the Marine Mammal Protection Act (16 U.S.C. 1361-1407 et seq.), and the Wild Bird Conservation Act (16 U.S.C. 4901-4916 et seq.), and are contained in Service regulations in chapter I, subchapter B of title 50 Code of Federal Regulations (CFR) parts 15, 16, 17, and 23. Common permit applications and record keeping requirements have been consolidated in 50 CFR part 13, and unique requirements of the various statutes in the applicable part.

OMB Control Number: 1018-0093.

Service Form Numbers: 3-200-19 through 3-200-37, 3-200-39 through 3-200-53, 3-200-58, 3-200-64 through 3-200-66, and 3-200-73.

Frequency of Collection: On occasion.

Description of Respondents: Individuals, biomedical companies, circuses, zoological parks, botanical gardens, nurseries, museums, universities, scientists, antique dealers, exotic pet industry, hunters, taxidermists, commercial importers/exporters of wildlife and plants, freight forwarders/brokers, and local, State, tribal and Federal governments.

Total Annual Responses: 9,307.

Total Annual Burden Hours: 6,746.

Total Annual Non-Hour Dollar Cost Burden: $955,625.

We again invite comments concerning this renewal on: (1) Whether the collection of information is necessary for the proper performance of the functions of the agency, including whether the information will have practical utility; (2) the accuracy of the agency's estimate of the burden of the collection of information; (3) ways to enhance the quality, utility and clarity of the information to be collected; and (4) ways to minimize the burden of the collection of information on those who are to respond. The information collections in this program are part of a system of record covered by the Privacy Act (5 U.S.C. 552 (a)).

Dated: March 2, 2004.
Anissa Craghead,
Service Information Collection Officer.

[FR Doc. 04-5143 Filed 3-5-04; 8:45 am]

BILLING CODE 4310-55-P